DEPARTMENT OF ENERGY

Federal Energy Regulatory Commission

[Project No. 15349-000]

At-Sea Development, LLC; Notice of Preliminary Permit Application Accepted for Filing and Soliciting Comments, Motions To Intervene, and Competing Applications

On April 2, 2024, At-Sea Development, LLC, filed an application for a preliminary permit, pursuant to section 4(f) of the Federal Power Act (FPA), proposing to study the feasibility of the Eastern Long Island Sound Tidal Energy Project to be located in Eastern Long Island Sound near the communities of East Marion and Greenport in Suffolk County, New York. The sole purpose of a preliminary permit, if issued, is to grant the permit holder priority to file a license application during the permit term. A preliminary permit does not authorize the permit holder to perform any land-disturbing activities or otherwise enter upon lands or waters owned by others without the owners' express permission.

The proposed project would consist of the following: (1) 250- to 500-kilowatt (kW) tidal turbines with rotor diameters from 42.7 to 55.8 feet; (2) 66 to 133 modules composed of three tidal turbines, each with a capacity of 750 kW to 1.5 megawatts (MW), with a total installed capacity not exceeding 100 MW; (3) a mooring foundation for each module measuring 111.5 by 75.5 feet, equipped with ballast and three tidal turbines; (4) a 66-kilovolt transmission line connecting common hubs to suitable shore landing sites in PSEG-Long Island's east end area of Suffolk County; and (5) appurtenant facilities. The proposed project would have an annual generation of 200,000 megawatt-hours.

Applicant Contact: Mr. Ronald F. Smith, At-Sea Development, LLC, 2916 Pine Spring Road, Falls Church, VA 22042; email: rsmith@at-seadevelopment.com; phone: (703) 328-6842.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15349-000.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

More information about this project, including a copy of the application, can be viewed or printed on the “eLibrary” link of the Commission's website at http://www.ferc.gov/docs-filing/elibrary.asp. Enter the docket number (P-15349) in the docket number field to access the document. For assistance, contact FERC Online Support.

Dated: May 17, 2024.
Debbie-Anne A. Reese,
Acting Secretary.

[FR Doc. 2024-11370 Filed 5-22-24; 8:45 am]

BILLING CODE 6717-01-P